DEPARTMENT OF COMMERCE

National Telecommunications and Information Administration

[Docket Number: 131219999-3999-02]

RIN 0660-XC008

First Responder Network Authority; National Environmental Policy Act Implementing Procedures and Categorical Exclusions

Correction

In notice document 2013-31493 appearing on pages 639 through 642 in the issue of Monday, January 6, 2014 make the following correction:

On page 639, in the second column, under the DATES heading, in the third line “February 5, 2013” should read “February 5, 2014”.

[FR Doc. C1-2013-31493 Filed 1-9-14; 8:45 am]

BILLING CODE 1505-01-D